DEPARTMENT OF COMMERCE

National Oceanic and Atmospheric Administration

[RIN 0648-XF972]

International Pacific Halibut Commission Appointments

AGENCY: National Marine Fisheries Service (NMFS), National Oceanic and Atmospheric Administration (NOAA), Commerce.

ACTION: Notice; call for nominations.

SUMMARY: NOAA is soliciting nominations for two individuals to serve as U.S. Commissioners to the IPHC. This action is necessary to ensure that the interests of the United States and all of its stakeholders in the Pacific halibut fishery are adequately represented. Nominations are open to all qualified individuals and may include current Commissioners.

DATES: Nominations and any supporting documentation must be received by February 28, 2018.

ADDRESSES: Nominations for U.S. Commissioners to the IPHC may be made in writing to Mr. Patrick E. Moran, Office of International Affairs and Seafood Inspection, National Marine Fisheries Service, at 1315 East-West Highway, Silver Spring, MD 20910. Nominations may also be sent via email (IPHC2018nominations@noaa.gov).

FOR FURTHER INFORMATION CONTACT: Mr. Patrick E. Moran, (301) 427-8370.

SUPPLEMENTARY INFORMATION:

Background

The IPHC is a bilateral regional fishery management organization established pursuant to the Convention between Canada and the United States for the Preservation of the Halibut Fishery of the North Pacific Ocean and Bering Sea (Convention). The Convention was signed at Ottawa, Ontario, on March 2, 1953, and was amended by a Protocol Amending the Convention signed at Washington, DC, on March 29, 1979. The Convention's central objective is to develop the stocks of Pacific halibut in waters off the west coasts of Canada and the United States to levels that will permit the optimum yield from the Pacific halibut fishery and to maintain the stocks at those levels. The IPHC fulfills this objective in part by recommending Pacific halibut fishery conservation and management measures for approval by the United States and Canada. Pursuant to the Northern Pacific Halibut Act of 1982, the Secretary of State, with the concurrence of the Secretary of Commerce, may accept or reject, on behalf of the United States, conservation and management measures recommended by the IPHC. 16 U.S.C. 773b. Measures accepted by the Secretary of State are adopted as binding regulations governing fishing for Pacific halibut in Convention waters of the United States. 16 U.S.C. 773c(b)(1). More information on the IPHC can be found at http://www.iphc.int.

Section 773a of the Northern Pacific Halibut Act of 1982 (16 U.S.C. 773a) requires that the United States be represented on the IPHC by three U.S. Commissioners. U.S. Commissioners are appointed for a term not to exceed 2 years, but are eligible for reappointment. Of the Commissioners:

(1) One must be an official of the National Oceanic and Atmospheric Administration; and

(2) Two must be knowledgeable or experienced concerning the Northern Pacific halibut fishery; of these, one must be a resident of Alaska and the other shall be a nonresident of Alaska. Of the three commissioners described in paragraphs (1) and (2), one must also be a voting member of the North Pacific Fishery Management Council.

(3) Commissioners who are not Federal employees are not considered to be Federal employees except for the purposes of injury compensation or tort claims liability as provided in section 8101 et seq. of title 5 and section 2671 et seq. of title 28.

In their official IPHC duties, Commissioners represent the interests of the United States and all of its stakeholders in the Pacific halibut fishery. These duties require a modest amount of travel (typically two or three trips per year lasting less than a week), and travel expenses are paid by the U.S. Department of State. Commissioners receive no compensation for their services.

Nomination Process

NOAA Fisheries is currently accepting nominations for two U.S. Commissioners for the IPHC who are not officials of NOAA. Successful nominees will be considered for appointment by the President and (pending Presidential action) interim designation by the Department of State.

Nomination packages should provide details of an individual's knowledge and experience relative to Pacific halibut. Examples of such knowledge and/or experience could include (but are not limited to) such activities as: Participation in commercial, tribal, or Community Development Quota (CDQ) fisheries, and/or sport and charterboat halibut fishing operations; participation in halibut processing operations; and participation in Pacific halibut management activities.

Nomination packages should document an individual's qualifications and state of residence. Self-nominations are acceptable, and current and former IPHC Commissioners are eligible for reappointment. Résumés, curriculum vitae, and/or letters of recommendation/support are useful but not required. Nomination packages will be evaluated on a case-by-case basis by officials in NOAA and the Department of Commerce who are familiar with the duties and responsibilities of IPHC Commissioners; evaluations will consider the aggregate of an individual's prior experience and knowledge of the Pacific halibut fishery, residency requirements, and any letters of recommendation provided. Nominees will be notified of their status (including rejection or approval) and any need for further information once the nomination process is complete.

Dated: January 23, 2018.
Steven Wilson,
Acting Director, Office of International Affairs and Seafood Inspection, National Marine Fisheries Service.

[FR Doc. 2018-01629 Filed 1-26-18; 8:45 am]

BILLING CODE 3510-22-P